DEPARTMENT OF EDUCATION

Notice of Final Extension of Project Period and Waiver for the Spinal Cord Injury Model Systems Centers

AGENCY: National Institute on Disability and Rehabilitation Research (NIDRR), Office of Special Education and Rehabilitative Services, Department of Education.

ACTION: Notice of final extension of project period and waiver for the Spinal Cord Injury Model Systems Centers (SCIMS).

SUMMARY: The Secretary waives the requirements in Education Department General Administrative Regulations (EDGAR), in 34 CFR 75.250 and 75.261(c)(2), respectively, that generally prohibit project periods exceeding five years and project period extensions involving the obligation of additional Federal funds. This extension of project period and waiver enables the current SCIMS (a total of 16), which provide assistance to establish innovative projects for the delivery, demonstration, and evaluation of comprehensive medical, vocational, and other rehabilitation services to meet the wide range of needs of individuals with Spinal Cord Injury (SCI), to receive an additional 12-month Federal funding period ranging from September 1, 2005, until December 1, 2006, a period exceeding the original project period of five years.

DATES: Effective Date: This priority is effective June 21, 2005.

FOR FURTHER INFORMATION CONTACT: Donna Nangle, U.S. Department of Education, 400 Maryland Avenue, SW., room 6030, Potomac Center Plaza, Washington, DC 20202. Telephone: (202) 245-7462 or by e-mail: donna.nangle@ed.gov

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: On April 25, 2005, we published a notice in the Federal Register (70 FR 21188) proposing an extension of project period and waiver in order to—

(1) Enable the Secretary to provide additional funds to the currently funded centers for an additional 12-month period ranging from September 1, 2005, until December 1, 2006; and

(2) Request comments on the proposed extension and waiver.

There are no substantive differences between the notice of proposed extension of project period and waiver and this notice of final extension of project period and waiver.

Public Comment

In the notice of proposed extension of project period and waiver, we invited comments. One party submitted a comment agreeing with the proposal to extend the grant period of the current grantees. We did not receive any comments opposing the proposed extension of project period and waiver. Generally, we do not address technical and other minor changes, as well as suggested changes the law does not authorize us to make.

Waiver of Delayed Effective Date

The Administrative Procedure Act requires that a substantive rule shall be published at least 30 days before its effective date, except as otherwise provided for good cause (5 U.S.C. 553(d)(3)). During the 30-day public comment period on the notice of proposed extension of project period and waiver, one party submitted a comment in support of the proposed extension and waiver. There were no objections received on the proposed extension and waiver, and therefore, no substantive changes have been made. In addition, given the fact that the additional period of funding is only for a 12-month period, and in order to make timely continuation grants to the 16 entities affected, the Secretary has determined that a delayed effective date is unnecessary and contrary to the public interest.

Background

NIDRR supports the goals of the President's New Freedom Initiative (NFI) and the National Institute on Disability and Rehabilitation Research Long-Range Plan (Plan), which are designed to help improve rehabilitation research and outcomes for individuals with disabilities.

Note: The NFI can be accessed on the Internet at the following site: http://www.whitehouse.gov/infocus/newfreedom.

The Plan can be accessed on the Internet at the following site: http://www.ed.gov/rschstat/research/pubs/index.html.

In accordance with the goals of the NFI and the Plan, and as authorized under section 204(a)(1) of the Rehabilitation Act of 1973, as amended, through NIDRR, the Department provides funding for projects to improve research and outcomes for individuals with disabilities. The Conference Report accompanying the 2005 Appropriations Act noted that NIDRR received additional funding for the SCIMS program and stated that the conferees intended that the additional funds should be used to support investments that could facilitate multi-center research on therapies, interventions, and the use of technology. NIDRR is conducting background work to inform the competition and plans to defer new awards, formerly scheduled for 2005, until 2006 in order to use the background information to guide development of competition priorities, allow applicants sufficient time to prepare proposals, and place all SCIMS grants on the same funding schedule.

The grants for 16 SCIMS at University of Alabama/Birmingham, Santa Clara Valley Medical Center, Los Amigos Research and Education Institute, Inc., Craig Hospital, University of Miami, Shepherd Center, Inc., Boston University Medical Center Hospital, University of Michigan, University of Missouri/Columbia, Kessler Medical Rehabilitation Research and Education Corporation, Mount Sinai School of Medicine, Thomas Jefferson University Hospital, University of Pittsburgh, The Institute for Rehabilitation and Research, Virginia Commonwealth University, and the University of Washington are scheduled to expire on various dates between August 31, 2005, and November 30, 2005. It would be contrary to the public interest, however, to have a lapse in these SCI research activities before the new awards are made in FY 2006.

To avoid a lapse in research and related activities, the Secretary will fund each of these projects for an additional 12 months. Accordingly, the Secretary waives the requirements in 34 CFR 75.250 and 75.261(c)(2), which prohibit project periods exceeding five years and extensions of project periods that involve the obligation of additional Federal funds.

Regulatory Flexibility Act Certification

The Secretary certifies that the final extension of the project period and waiver would not have a significant economic impact on a substantial number of small entities. The only entities that would be affected are the 16 SCIMS.

Paperwork Reduction Act of 1995

This final extension of project period and waiver does not contain any information collection requirements.

Intergovernmental Review

This program is not subject to the requirements of Executive Order 12372 and the regulations in 34 CFR part 79.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 15, 2005.
John H. Hager,
Assistant Secretary for Special Education and Rehabilitative Services.

[FR Doc. 05-12223 Filed 6-20-05; 8:45 am]

BILLING CODE 4000-01-P